DEPARTMENT OF LABOR

Employment and Training Administration

[TA-W-53,187]

Harriet & Henderson Yarns, Inc., Corporate Office, Henderson, NC; Dismissal of Application for Reconsideration

Pursuant to 29 CFR 90.18(C) an application for administrative reconsideration was filed with the Director of the Division of Trade Adjustment Assistance for workers at Harriet & Henderson Yarns, Inc., Corporate Office, Henderson North Carolina. The application contained no new substantial information which would bear importantly on the Department's determination. Therefore, dismissal of the application was issued.

TA-W-53,187; Harriet & Henderson Yarns, Inc. Corporate Office, Henderson, North Carolina (January 8, 2004)

Signed at Washington, DC this 14th day of January 2004.
Timothy Sullivan,
Director, Division of Trade Adjustment Assistance.

[FR Doc. 04-1429 Filed 1-22-04; 8:45 am]

BILLING CODE 4510-30-P